DEPARTMENT OF COMMERCE

National Oceanic and Atmospheric Administration

50 CFR Part 622

[Docket No. 140819687-5583-02]

RIN 0648-BE40

Fisheries of the Caribbean, Gulf of Mexico, and South Atlantic; Coastal Migratory Pelagic Resources in the Gulf of Mexico and Atlantic Region; Framework Amendment

AGENCY: National Marine Fisheries Service (NMFS), National Oceanic and Atmospheric Administration (NOAA), Commerce.

ACTION: Final rule.

SUMMARY: In this final rule, NMFS implements management measures described in Framework Amendment 2 to the Fishery Management Plan (FMP) for the Coastal Migratory Pelagic (CMP) Resources in the Gulf of Mexico and Atlantic Region (Framework Amendment 2), as prepared and submitted by the South Atlantic and Gulf of Mexico Fishery Management Councils (Councils). This final rule removes the unlimited commercial trip limit for Spanish mackerel in Federal waters off the east coast of Florida that began on weekdays beginning December 1 of each year. The modifications to the commercial trip limit system better fit the current fishery conditions and catch limits for Atlantic migratory group Spanish mackerel in the southern zone, while increasing social and economic benefits of the CMP fishery.

DATES: This final rule is effective August 13, 2015.

ADDRESSES: Framework Amendment 2 to the FMP, which includes an environmental assessment and a regulatory impact review, is available from www.regulations.gov or the Southeast Regional Office Web site at http://sero.nmfs.noaa.gov.

FOR FURTHER INFORMATION CONTACT: Karla Gore, NMFS Southeast Regional Office, telephone: 727-824-5305, or email: karla.gore@noaa.gov.

SUPPLEMENTARY INFORMATION: The CMP fishery of the South Atlantic and Gulf of Mexico (Gulf) includes Spanish mackerel and is managed under the CMP FMP. The FMP was prepared by the Councils and implemented through regulations at 50 CFR part 622 under the authority of the Magnuson-Stevens Fishery Conservation and Management Act (Magnuson-Stevens Act).

On April 9, 2015, NMFS published a proposed rule for the framework action and requested public comment (80 FR 19056). The proposed rule and the framework action set forth additional rationale for the actions contained in this final rule. A summary of the actions implemented by this final rule is provided below.

Management Measure Contained in This Final Rule

This final rule modifies the commercial trip limit system for Atlantic migratory group Spanish mackerel. Changes in fishery conditions, such as an increase of the commercial annual catch limit (ACL), have necessitated modifications to some elements of the trip limit system.

This final rule streamlines the commercial trip limit system for the Atlantic migratory group Spanish mackerel by eliminating the unlimited weekday Spanish mackerel trip limit in Federal waters off the eastern coast of Florida. The final rule retains the adjusted quota, which provides a buffer to help prevent the commercial sector from exceeding the commercial ACL.

This final rule establishes a commercial trip limit of 3,500 lb (1,588 kg) for Spanish mackerel in Federal waters offshore of South Carolina, Georgia, and eastern Florida, which is the area established as the southern zone by the final rule implementing Amendment 20B to the FMP (80 FR 4216, January 27, 2015). When 75 percent of the adjusted southern zone quota (2,417,330 lb (1,096,482 kg)) is met or is projected to be met, the commercial trip limit will be reduced to 1,500 lb (680 kg). When 100 percent of the adjusted southern zone commercial quota is met or projected to be met, the commercial trip limit will be reduced to 500 lb (227 kg) until the end of the fishing year or until the southern zone commercial quota is met or is projected to be met, at which time the commercial sector in the southern zone would be closed to harvest of Spanish mackerel. The modified system of trip limits described above would control harvest more effectively.

Comments and Responses

NMFS received two comments on the proposed rule, one from a fishing organization that expressed support of the proposed action, and one from a Federal agency that stated it had no comment. NMFS did not receive any substantive comments on the proposed rule.

Classification

The Regional Administrator, Southeast Region, NMFS determined that this final rule is necessary for the conservation and management of Atlantic migratory group Spanish mackerel and is consistent with Framework Amendment 2, the FMP, the Magnuson-Stevens Act, and other applicable laws.

This final rule has been determined to not be significant for purposes of Executive Order 12866.

The Chief Counsel for Regulation of the Department of Commerce certified to the Chief Counsel for Advocacy of the Small Business Administration during the proposed rule stage that this rule would not have a significant economic impact on a substantial number of small entities. The factual basis for this determination was published in the proposed rule and is not repeated here. NMFS received no comments regarding the certification and has not received any new information that would affect its determination. As a result, a final regulatory flexibility analysis was not required and none was prepared.

List of Subjects in 50 CFR Part 622

Annual catch limit, Fisheries, Fishing, Gulf of Mexico, Quotas, South Atlantic, Spanish mackerel.

Dated: July 8, 2015.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.385, paragraphs (b)(1) and (2) are revised to read as follows:

§ 622.385 Commercial trip limits.

* * * * *

(b) * * *

(1) Atlantic migratory group. The following trip limits apply to vessels for which commercial permits for Spanish mackerel have been issued, as required under § 622.370(a)(3).

(i) Northern zone. Spanish mackerel in or from the EEZ may not be possessed on board or landed in a day from a vessel for which a permit for Spanish mackerel has been issued, as required under § 622.370(a)(3), in amounts exceeding 3,500 lb (1,588 kg).

(ii) Southern zone. Spanish mackerel in or from the EEZ may not be possessed on board or landed in a day from a vessel for which a permit for Spanish mackerel has been issued, as required under § 622.370(a)(3)—

(A) From March 1 until 75 percent of the adjusted quota for the southern zone has been reached or is projected to be reached, in amounts exceeding 3,500 lb (1,588 kg).

(B) After 75 percent of the adjusted quota for the southern zone has been reached or is projected to be reached, in amounts exceeding 1,500 lb (680 kg).

(C) After 100 percent of the adjusted quota for the southern zone has been reached or is projected to be reached, and until the end of the fishing year or the southern zone's quota has been reached or is projected to be reached, in amounts exceeding 500 lb (227 kg). See § 622.384(e) for limitations regarding Atlantic migratory group Spanish mackerel after the southern zone's quota is reached.

(2) For the purpose of paragraph (b)(1)(ii) of this section, the adjusted quota for the southern zone is 2,417,330 lb (1,096,482 kg). The adjusted quota for the southern zone is the quota for the Atlantic migratory group Spanish mackerel southern zone reduced by an amount calculated to allow continued harvest of Atlantic migratory group Spanish mackerel at the rate of 500 lb (227 kg) per vessel per day for the remainder of the fishing year after the adjusted quota is reached. Total commercial harvest in the southern zone is still subject to the southern zone quota and accountability measures. By filing a notification with the Office of the Federal Register, the Assistant Administrator will announce when 75 percent and 100 percent of the adjusted quota are reached or are projected to be reached.

* * * * *

[FR Doc. 2015-17192 Filed 7-13-15; 8:45 am]

BILLING CODE 3510-22-P